DEPARTMENT OF TRANSPORTATION

Federal Aviation Administration

Notice of Intent of Waiver With Respect to Land; Prairie Du Chien Municipal Airport, Prairie Du Chien, WI

AGENCY: Federal Aviation Administration (FAA), DOT.

ACTION: Notice.

SUMMARY: The FAA is considering a proposal to change 0.50 acres (future Parcel 17D) of Clear Zone Easement contained in Parcel 17B to Avigation Easement in exchange for converting 2.94 acres of land currently not controlled by the Airport Sponsor (future Parcel 36) to an Avigation Easement for approach protection. Both Parcel 17B and future Parcel 36 are owned by Crossing Rivers Health Center (and are being sold to a commercial developer) and located adjacent to Prairie du Chien Municipal Airport, Prairie du Chien, WI. The proposed release of 0.50 acres of Clear Zone Easement to Avigation Easement is not in the Runway Protection Zone (RPZ). The release of 0.50 acres from Clear Zone Easement to Avigation Easement is required to allow development on the property that is being sold by the Crossing Rivers Health Center. The conversion from Clear Zone Easement to Avigation Easement will not result in any impact to surfaces protected by Part 77 or airport design surfaces. The Clear Zone Easement was originally purchased to enable the Airport to ensure airport compatible land use. The proposed future use of 0.50 acres of the land will be a compatible land use.

DATES: Comments must be received on or before June 28, 2021.

ADDRESSES: Documents are available for review by appointment at the FAA Chicago Airports District Office, Christina Sullivan, Chicago Airports District Office, 2300 East Devon Avenue, Des Plaines, IL 60018, Telephone: (847) 294-8252/Fax: (847) 294-7046 and City of Prairie Du Chien, 37735 US Highway 18, Prairie Du Chien, WI 53821, Telephone: (608)326-2118.

Written comments on the Sponsor's request must be delivered or mailed to: Christina, Program Manager, Federal Aviation Administration, Chicago Airports District Office, 2300 East Devon, Ste. 320, Des Plaines, IL 60018, Telephone: (847) 294-8252/Fax: (847) 294-7046.

FOR FURTHER INFORMATION CONTACT: Christina Sullivan, Program Manager, Federal Aviation Administration, Chicago Airports District Office, 2300 East Devon, Ste. 320, Des Plaines, IL 60018, Telephone: (847) 294-8252/Fax: (847) 294-7046.

SUPPLEMENTARY INFORMATION: In accordance with section 47107(h) of Title 49, United States Code, this notice is required to be published in the Federal Register 30 days before modifying the land-use assurance that requires the property to be used for an aeronautical purpose.

The Clear Zone Easement (within Parcel 17B) is owned by the City of Prairie du Chien. The easement was originally purchased to ensure airport compatible development.

Based on current Fair Market Value of Clear Zone Easement ($8,428) being released and Avigation Easement ($9,384) being granted to the City of Prairie du Chien in exchange, the net gain to the airport in value of easements is $956.00.

This notice announces that the FAA is considering the release of the subject airport property at the Prairie du Chien Municipal Airport, Prairie du Chien, WI from federal easement covenants, subject to a reservation for continuing right of flight as well as restrictions on the released property as required in FAA Order 5190.6B section 22.16. Approval does not constitute a commitment by the FAA to financially assist in the disposal of the subject airport property nor a determination of eligibility for grant-in-aid funding from the FAA.

Easement Parcel 17D, Part of Airport Parcel 17B (Legal Description), Avigation Easement To Be Converted From Clear Zone Easement, per Proposed Release

Clear Zone Easement located in Farm Lot 43, of the Private Land Claims at Prairie du Chien, City of Prairie du Chien, Crawford County, Wisconsin. Also being part of Lot 1, Crawford County Certified Survey Map Number 237, Document Number 207064 recorded in the Crawford County Register of Deeds Office, described as follows:

Commencing at the Northeast Corner of Farm Lot 43 of the Private Land Claims at Prairie du Chien; thence S79°36′51″ W, 975.51 feet along the north line of said Farm Lot 43; thence S0°00′00″ W, 1,098.80 feet to a found ¾” iron re-bar at the Northeast Corner of Lot 1, Crawford County Certified Survey Map Number 237; thence S69°31′09″ E, along the north line of said Lot 1, 565.40 feet to the northeast corner of said Lot 1, and a found ¾” iron rebar; thence S4°15′28″ E, along the east line of said Lot 1, 489.86 feet to a set ¾” iron rebar, said point being the Point of Beginning of this Clear Zone Easement.

Thence continuing S4°15′28″ E, along the east line of said Lot 1, 273.84 feet to a found ¾” iron rebar on the westerly line of Lot 2, Crawford County Certified Survey Map Number 1220; thence S4°10′52″ E, along the east line of said Lot 1, and the westerly line of said Lot 2, 22.03 feet to a found ¾” iron rebar on the northerly right of way line of U.S.H. 18 and S.T.H. 35; thence N47°15′09″ W, along the northerly right of way of U.S.H. 18 and S.T.H. 35, 165.09 feet, to a found ¾” iron rebar; thence N47°17′32″ W, along the northerly right of way line of U.S.H. 18 and S.T.H 35, 51.16 feet, to a set ¾” iron rebar; thence N42°42′28″ E, 201.82 feet, to the Point of Beginning.

Containing 0.50 acres more or less.

Issued in Des Plaines, IL, on May 24, 2021.
Debra L. Bartell,
Manager, Chicago Airports District Office, FAA, Great Lakes Region.

[FR Doc. 2021-11342 Filed 5-27-21; 8:45 am]

BILLING CODE 4910-13-P